DEPARTMENT OF LABOR

Employment and Training Administration

[TA-W-65,899]

John Maneely Company, Wheatland Tube Co. Division, A.K.A. Sharon Tube Co., Sharon, PA; Notice of Termination of Investigation

In accordance with Section 221 of the Trade Act of 1974, as amended, an investigation was initiated on May 7, 2009 in response to a petition filed by United Steelworkers union officials on behalf of workers of John Maneely Company, Wheatland Tube Co. Division, a.k.a. Sharon Tube Co., Sharon, Pennsylvania.

The petitioners have requested that the petition be withdrawn. Consequently, the investigation has been terminated.

Signed in Washington, DC, this 5th day of June 2009.
Richard Church,
Certifying Officer, Division of Trade Adjustment Assistance.

[FR Doc. E9-15745 Filed 7-2-09; 8:45 am]

BILLING CODE 4510-FN-P